DEPARTMENT OF JUSTICE

Antitrust Division

Notice Pursuant to the National Cooperative Research and Production Act of 1993—Maritime Sustainment and Technology Innovation Consortium

Notice is hereby given that, on July 9, 2024, pursuant to section 6(a) of the National Cooperative Research and Production Act of 1993, 15 U.S.C. 4301 et seq. (“the Act”), Maritime Sustainment and Technology Innovation Consortium (“MSTIC”) has filed written notifications simultaneously with the Attorney General and the Federal Trade Commission disclosing changes in its membership. The notifications were filed for the purpose of extending the Act's provisions limiting the recovery of antitrust plaintiffs to actual damages under specified circumstances. Specifically, Universal Solutions International, Inc., Newport News, VA; VACCO Industries, South El Monte, CA; Wolfspeed, Inc., Durham, NC; Wright Electric, Inc., Malta, NY; AeroVironment, Inc., Simi Valley, CA; Agilis Measurement Systems, Inc., Palm Beach Gardens, FL; ArmorWorks Enterprises, Inc., Chandler, AZ; ASCO Power Technologies LP, Florham Park, NJ; BAE Systems Land & Armaments L.P., Minneapolis, MN; Barrow Wise Consulting LLC, Rockville, MD; C3 Technology LLC, Rochester, MN; Cigent Technology, Inc., Fort Myers, FL; CORASCloud, Inc., McLean, VA; Craitor, Inc., Vista, CA; Davidson Technologies, Inc., Huntsville, AL; ESI Acquisition Corp. DBA JA Moody, Malvern, PA; G Systems, Inc., Irving, TX; Great Plains Innovation Network, Inc., Manhattan, KS; HumanTouch LLC, McLean, VA; Laser Welding Solutions LLC, Houston, TX; Nautical Structures Industries, Inc., Largo, FL; Penn United Technologies, Inc., Cabot, PA; Phoenix Group of Virginia, Inc., Chesapeake, VA; Reimel Machine, Inc., Willow Grove, PA; Schweitzer Engineering Laboratories, Inc., Pullman, WA; Snowbird Technologies, Inc., Jacksonville, FL; Tapestry Solutions, Inc., San Diego, CA; and Thermal and Fluids Solutions Group LLC, Fredericksburg, VA, have been added as parties to this venture.

Also, DMS South, Lancaster, TX; GSD LLC, Williamsburg, VA; and NanoVMs, Inc., San Francisco, CA, have withdrawn as parties to this venture.

No other changes have been made in either the membership or planned activity of the group research project. Membership in this group research project remains open, and MSTIC intends to file additional written notifications disclosing all changes in membership.

On October 21, 2020, MSTIC filed its original notification pursuant to section 6(a) of the Act. The Department of Justice published a notice in the Federal Register pursuant to section 6(b) of the Act on November 19, 2020 (85 FR 73750).

The last notification was filed with the Department on April 15, 2024. A notice was published in the Federal Register pursuant to section 6(b) of the Act on June 28, 2024 (89 FR 54041).

Suzanne Morris,
Deputy Director Civil Enforcement Operations, Antitrust Division.

[FR Doc. 2024-22075 Filed 9-25-24; 8:45 am]

BILLING CODE P